DEPARTMENT OF COMMERCE

International Trade Administration

[A-588-869]

Diffusion-Annealed, Nickel-Plated Flat-Rolled Steel Products From Japan: Antidumping Duty Order

AGENCY: Enforcement and Compliance, International Trade Administration, Department of Commerce.

DATES: Effective Date: May 29, 2014.

SUMMARY: Based on affirmative final determinations by the Department of Commerce (the Department) and the International Trade Commission (ITC), the Department is issuing an antidumping duty order on diffusion-annealed, nickel-plated flat-rolled steel products (certain nickel-plated, flat-rolled steel) from Japan.

FOR FURTHER INFORMATION CONTACT: Dena Crossland or David Cordell, AD/CVD Operations, Office VI, Enforcement and Compliance, International Trade Administration, U.S. Department of Commerce, 14th Street and Constitution Avenue NW., Washington, DC 20230; telephone: (202) 482-3362 or (202) 482-0408, respectively.

SUPPLEMENTARY INFORMATION:

Background

In accordance with sections 735(d) and 777(i)(1) of the Tariff Act of 1930, as amended (the Act), on April 10, 2014, the Department published the final determination of sales at less than fair value in the antidumping duty investigation of certain nickel-plated, flat-rolled steel from Japan.¹ On May 21, 2014, the ITC notified the Department of its affirmative determination, pursuant to section 735(b) of the Act, that an industry in the United States is materially injured by reason of less-than-fair-value imports from Japan of certain nickel-plated, flat-rolled steel.² Pursuant to section 736(a) of the Act, the Department is publishing an antidumping duty order on the subject merchandise.

¹ See Notice of Affirmative Final Determination of Sales at Less Than Fair Value: Diffusion-Annealed, Nickel-Plated Flat-Rolled Steel Products from Japan, 79 FR 19868 (April 10, 2014).

² See Diffusion-Annealed, Nickel-Plated Flat-Rolled Steel Products from Japan (Inv. No. 731-TA-1206 (Final), USITC Publication 4466, May 2014).

Scope of the Order

The diffusion-annealed, nickel-plated flat-rolled steel products included in this order are flat-rolled, cold-reduced steel products, regardless of chemistry; whether or not in coils; either plated or coated with nickel or nickel-based alloys and subsequently annealed (i.e., “diffusion-annealed”); whether or not painted, varnished or coated with plastics or other metallic or nonmetallic substances; and less than or equal to 2.0 mm in nominal thickness. For purposes of this order, “nickel-based alloys” include all nickel alloys with other metals in which nickel accounts for at least 80 percent of the alloy by volume.

Imports of merchandise included in the scope of this order are classified primarily under Harmonized Tariff Schedule of the United States (HTSUS) subheadings 7212.50.0000 and 7210.90.6000, but may also be classified under HTSUS subheadings 7210.70.6090, 7212.40.1000, 7212.40.5000, 7219.90.0020, 7219.90.0025, 7219.90.0060, 7219.90.0080, 7220.90.0010, 7220.90.0015, 7225.99.0090, or 7226.99.0180. Although the HTSUS subheadings are provided for convenience and customs purposes, the written description of the scope of this order is dispositive.

Antidumping Duty Order

As stated above, on May 21, 2014, in accordance with section 735(d) of the Act, the ITC notified the Department of its final determination in this investigation, in which it found material injury with respect to certain nickel-plated, flat-rolled steel from Japan. Because the ITC determined that imports of certain nickel-plated, flat-rolled steel from Japan are materially injuring a U.S. industry, all unliquidated entries of such merchandise from Japan, entered or withdrawn from warehouse, are subject to the assessment of antidumping duties.

Therefore, in accordance with section 736(a)(1) of the Act, the Department will direct U.S. Customs and Border Protection (CBP) to assess, upon further instruction by the Department, antidumping duties equal to the amount by which the normal value of the merchandise exceeds the export price (or constructed export price) of the merchandise, for all relevant entries of certain nickel-plated, flat-rolled steel from Japan. These antidumping duties will be assessed on unliquidated entries of certain nickel-plated, flat-rolled steel from Japan entered, or withdrawn from warehouse, for consumption on or after November 19, 2013, the date on which the Department published its Preliminary Determination,³ but will not include entries occurring after the expiration of the provisional measures period and before publication of the ITC's final injury determination as further described below.

³ See Diffusion-Annealed, Nickel-Plated Flat-Rolled Steel Products From Japan: Preliminary Determination of Sales at Less Than Fair Value and Postponement of Final Determination, 78 FR 69371 (November 19, 2013) (Preliminary Determination).

Continuation of Suspension of Liquidation

In accordance with section 735(c)(1)(B) of the Act, we will instruct CBP to continue to suspend liquidation on all entries of certain nickel-plated, flat-rolled steel from Japan. We will also instruct CBP to require cash deposits equal to the amounts by which the normal value exceeds the U.S. price as indicated below. These instructions suspending liquidation will remain in effect until further notice.

Accordingly, effective on the date of publication of the ITC's final affirmative injury determination, CBP will require, at the same time as importers would normally deposit estimated duties on this subject merchandise, a cash deposit equal to the weighted-average dumping margins listed below. See section 736(a)(3) of the Act.

Provisional Measures

Section 733(d) of the Act states that instructions issued pursuant to an affirmative preliminary determination may not remain in effect for more than four months except where exporters representing a significant proportion of exports of the subject merchandise request the Department to extend that four-month period to no more than six months. At the request of an exporter that accounts for a significant proportion of certain nickel-plated, flat-rolled steel from Japan, we extended the four-month period to no more than six months.⁴ In the underlying investigation, the Department published the Preliminary Determination on November 19, 2013.⁵ Therefore, the six-month period beginning on the date of the publication of the Preliminary Determination will end on May 17, 2014. Furthermore, section 737(b) of the Act states that definitive duties are to begin on the date of publication of the ITC's final injury determination.

⁴ See Letter from Toyo Kohan Co., Ltd. to the Department, dated October 28, 2013. See also Letter from Thomas Steel Strip Corporation (Petitioner) to the Department, dated October 29, 2013.

⁵ See Preliminary Determination.

Therefore, in accordance with section 733(d) of the Act and our practice, we will instruct CBP to terminate the suspension of liquidation and to liquidate, without regard to antidumping duties, unliquidated entries of certain nickel-plated, flat-rolled steel from Japan entered, or withdrawn from warehouse, for consumption after May 17, 2014, the date provisional measures expired, until and through the day preceding the date of publication of the ITC's final injury determination in the Federal Register. Suspension of liquidation will resume on the date of publication of the ITC's final injury determination in the Federal Register.

The weighted-average dumping margins are as follows:

Manufacturer/exporter | Weighted -average margin (percent)
Toyo Kohan Co., Ltd. | 45.42
Nippon Steel & Sumitomo Metal Corporation | 77.70
All Others | 45.42

This notice constitutes the antidumping duty order with respect to certain nickel-plated, flat-rolled steel from Japan pursuant to section 736(a) of the Act. Interested parties can find an updated list of antidumping duty orders currently in effect at http://ia.ita.doc.gov/stats/iastats1.html.

This order is published in accordance with section 736(a) of the Act and 19 CFR 351.211.

Dated: May 22, 2014.
Paul Piquado,
Assistant Secretary for Enforcement and Compliance.

[FR Doc. 2014-12509 Filed 5-28-14; 8:45 am]

BILLING CODE 3510-DS-P